NATIONAL AERONAUTICS AND SPACE ADMINISTRATION

[Notice (14-083)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: September 11, 2014.

FOR FURTHER INFORMATION CONTACT: Robert M. Padilla, Patent Counsel, Ames Research Center, Code 202A-4, Moffett Field, CA 94035-1000; telephone (650) 604-5104; fax (650) 604-2767.

NASA Case No.: ARC-17110-1: Detection of Gases and Vapors Present at Low Concentrations;

NASA Case No.: ARC-16938-1: A Method for Accurate Load/Position Control of Rigidly-Coupled Electromechanical Actuators;

NASA Case No.: ARC-17354-1: Metal Oxide Vertical Graphene Hybrid Supercapacitors;

NASA Case No.: ARC-17130-1: Nanostructure-Based Vacuum Channel Transistor;

NASA Case No.: ARC-16933-1: Reconfigurable Image Generator.

Sumara M. Thompson-King,
General Counsel.

[FR Doc. 2014-21605 Filed 9-10-14; 8:45 am]

BILLING CODE 7510-13-P